DEPARTMENT OF TRANSPORTATION

Federal Aviation Administration

14 CFR Part 39

[Docket No. 2003-CE-14-AD; Amendment 39-13275; AD 2003-17-02]

RIN 2120-AA64

Airworthiness Directives; EXTRA Flugzeugbau GmbH Models EA-300/200, EA-300L, and EA-300S Airplanes

AGENCY: Federal Aviation Administration, DOT.

ACTION: Final rule.

SUMMARY: This amendment adopts a new airworthiness directive (AD) that applies to all EXTRA Flugzeugbau GmbH (EXTRA) Models EA-300/200, EA-300L, and EA-300S airplanes. This AD requires you to inspect the fuel selector valve for leakage and the wing for structural damage and correct any damage or leakage. This AD is the result of mandatory continuing airworthiness information (MCAI) issued by the airworthiness authority for Germany. The actions specified by this AD are intended to detect and correct fuel leakage in the wings, which could lead to structural damage of the wings and possible reduced structural margins. Reduced structural margins could lead to eventual structural failure.

DATES: This AD becomes effective on October 10, 2003.

The Director of the Federal Register approved the incorporation by reference of certain publications listed in the regulations as of October 10, 2003.

ADDRESSES: You may get the service information referenced in this AD from EXTRA Flugzeugbau GmbH, Flugplatz Dinslaken, D-46569 Hunxe, Federal Republic of Germany; telephone: (0 28 58) 91 37-00; facsimile: (0 28 58) 91 37-30. You may view this information at the Federal Aviation Administration (FAA), Central Region, Office of the Regional Counsel, Attention: Rules Docket No. 2003-CE-14-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Luftfahrt-Bundesamt (LBA), which is the airworthiness authority for Germany, recently notified FAA that an unsafe condition may exist on all EXTRA Models EA-300/200, EA-300L, and EA-300S airplanes. The LBA reports several occurrences where the fuel selector valve did not operate correctly. When the wing tanks are selected, the acro/center tank is not completely shut-off. The result is fuel draining into the wing tanks that must be empty for aerobatics. This failure of the fuel selector valve to correctly operate is caused by the deterioration of the “O”-ring in the valve.

What is the potential impact if FAA took no action? Aerobatic operation with fuel in the wings could lead to structural damage of the wings and possibly reduced structural margins. Reduced structural margins could lead to eventual structural failure.

Has FAA taken any action to this point? We issued a proposal to amend part 39 of the Federal Aviation Regulations (14 CFR part 39) to include an AD that would apply to all EXTRA Flugzeugbau GmbH (EXTRA) Models EA-300/200, EA-300L, and EA-300S airplanes. This proposal was published in the Federal Register as a notice of proposed rulemaking (NPRM) on May 2, 2003 (68 FR 23427). The NPRM proposed to require you to inspect the fuel selector valve for leakage and the wing for structural damage and correct any damage or leakage.

Was the public invited to comment? The FAA encouraged interested persons to participate in the making of this amendment. The following presents the comment received on the proposal and FAA's response to the comment:

Comment Issue: Condition Only Evident in Airplanes With Installed Long-Range Fuel Tanks

What is the commenter's concern? One commenter states that the condition is only evident in airplanes with long-range fuel tanks installed because of the unique physical configuration of the tanks and does not affect the fuel selector valve. Further, the problem does not exist on the affected airplane model that does not have selectable tanks. The commenter also states that there have been no known structural failures; only a few fuel leaks and paint cracks. The FAA infers that the commenter wants the NPRM withdrawn. Further, we infer that if the AD is issued, the commenter wants the AD to apply only to airplanes with long-range fuel tanks installed.

What is FAA's response to the concern? The FAA disagrees that the NPRM should be withdrawn or that the AD should apply only to airplanes with long-range fuel tanks installed. While FAA agrees that the structural cracks have only been found on some airplanes with long-range fuel tanks installed, FAA has determined that the condition should be addressed on all airplanes listed on the German AD that are type certificated for operation in the United States. The leaking fuel selector is not the main problem; the primary concern is the consequent structural damage done by the presence of fuel in the wing tanks that must be empty during aerobatics.

We are not changing the final rule AD action as a result of this comment.

FAA's Determination

What is FAA's final determination on this issue? We carefully reviewed all available information related to the subject presented above and determined that air safety and the public interest require the adoption of the rule as proposed except for the changes discussed above and minor editorial corrections. We have determined that these changes and minor corrections:

—Provide the intent that was proposed in the NPRM for correcting the unsafe condition; and

—Do not add any additional burden upon the public than was already proposed in the NPRM.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes does this AD impact? We estimate that this AD affects 184 airplanes in the U.S. registry.

What is the cost impact of this AD on owners/operators of the affected airplanes? We estimate the following costs to accomplish the inspection of the fuel selector valve:

Labor cost | Parts cost | Total cost per airplane | Total cost on U.S. operators
4 workhours × $60 per hour = $240 | Not Applicable | $240 | $240 × 184 = $44,160

We estimate the following costs to accomplish any necessary valve repair that would be required based on the results of this inspection. We have no way of determining the number of airplanes that may need such repair:

Labor cost | Parts cost | Total cost per airplane
5 workhours × $60 per hour = $300 | $122.50 | $422.50

We estimate the following costs to accomplish the external inspection of the wings:

Labor cost | Parts cost | Total cost per airplane | Total cost on U.S. operators
1 workhour × $60 per hour = $60 | Not applicable | $60 | $60 × 184 = $11,040

We are unable to estimate the costs to accomplish any necessary wing repair that would be required based on the results of this inspection. EXTRA will evaluate the damage of each affected airplane and develop an appropriate repair scheme.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption “ADDRESSES”.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-17-02 Extra Flugzeugbau GmbH: Amendment 39-13275; Docket No. 2003-CE-14-AD.

(a) What airplanes are affected by this AD? This AD affects Models EA-300/200, EA-300L, and EA-300S airplanes, all serial numbers, that are certificated in any category.

(b) Who must comply with this AD? Anyone who wishes to operate any of the airplanes identified in paragraph (a) of this AD must comply with this AD.

(c) What problem does this AD address? The actions specified by this AD are intended to detect and correct fuel leakage in the wings, which could lead to structural damage of the wings and possible reduced structural margins. Reduced structural margins could lead to eventual structural failure.

(d) What actions must I accomplish to address this problem? To address this problem, you must accomplish the following:

Actions | Compliance | Procedures
(1) For all affected airplanes, inspect the fuel selector valve for leakage | Within the next 100 hours time-in-service (TIS) after October 10, 2003 (the effective date of this AD), unless already accomplished | In accordance with EXTRA Flugzeugbau GmbH Service Letter No. 300-09-02, Issue: A, dated September 19, 2002, and the applicable airplane maintenance manual.
(2) For all affected airplanes, if any leakage is found during the inspection required by this AD, repair the damage | Prior to further flight after the inspection required in paragraph (d)(1) of this AD, unless already accomplished | In accordance with the applicable airplane maintenance manual.
(3) For all affected airplanes, inspect the external wing for structural damage: (i) Cracks (ii) Delamination (iii) Fuel leakage | Within the next 100 hours time-in-service (TIS) after October 10, 2003 (the effective date of this AD), unless already accomplished | In accordance with the applicable airplane maintenance manual.
(4) For all affected airplanes, if any cracks, delamination, or fuel leakage is found during the inspection required by this AD, accomplish the following: (i) obtain a repair scheme from the manufacturer; (ii) incorporate this repair scheme; and (iii) accomplish any follow-up actions as directed by the FAA. | Prior to further flight after the inspection required in paragraph (d)(3) of this AD, unless already accomplished | In accordance with a repair scheme obtained from EXTRA Flugzeugbau GmbH, Flugplatz Dinslaken, D-46569 Hünxe, Federal Republic of Germany; telephone: (0 28 58) 91 37-00; facsimile: (0 28 58) 91 37-30. Obtain this repair scheme through the FAA at the address specified in paragraph (e) of this AD.

(e) Can I comply with this AD in any other way? To use an alternative method of compliance or adjust the compliance time, use the procedures in 14 CFR 39.19. Send these requests to the Manager, Standards Office, Small Airplane Directorate. For information on any already approved alternative methods of compliance, contact Karl Schletzbaum, Aerospace Engineer, FAA, Small Airplane Directorate, 901 Locust, Room 301, Kansas City, Missouri 64106; telephone: (816) 329-4146; facsimile: (816) 329-4090.

(f) Are any service bulletins incorporated into this AD by reference? Actions required by this AD must be done in accordance with EXTRA Flugzeugbau GmbH Service Letter No. 300-09-02, Issue: A, dated September 19, 2002. The Director of the Federal Register approved this incorporation by reference under 5 U.S.C. 552(a) and 1 CFR part 51. You may get copies from EXTRA Flugzeugbau GmbH, Flugplatz Dinslaken, D-46569 Hünxe, Federal Republic of Germany; telephone: (0 28 58) 91 37-00; facsimile: (0 28 58) 91 37-30. You may view copies at the FAA, Central Region, Office of the Regional Counsel, 901 Locust, Room 506, Kansas City, Missouri, or at the Office of the Federal Register, 800 North Capitol Street, NW., suite 700, Washington, DC.

(g) When does this amendment become effective? This amendment becomes effective on October 10, 2003.

Issued in Kansas City, Missouri, on August 11, 2003.
Diane K. Malone,
Acting Manager, Small Airplane Directorate, Aircraft Certification Service.

[FR Doc. 03-20832 Filed 8-18-03; 8:45 am]

BILLING CODE 4910-13-P